DEPARTMENT OF COMMERCE

National Oceanic and Atmospheric Administration

RIN 0648-XF105

Endangered Species; File No. 21088

AGENCY: National Marine Fisheries Service (NMFS), National Oceanic and Atmospheric Administration (NOAA), Department of Commerce.

ACTION: Notice; application for an enhancement of survival permit.

SUMMARY: NMFS has received an application for an enhancement of survival permit under the Endangered Species Act (ESA) and a request for entry into an associated Safe Harbor Agreement (Agreement) between the applicant and NMFS. The proposed enhancement of survival permit and Agreement are intended to promote the survival and recovery of the Southern Oregon/Northern California Coast (SONCC) coho salmon (Oncorhynchus kisutch), which is listed as threatened under the ESA.

DATES: Comments or requests for a public hearing on the action proposed in the application or related matters must be received no later than 5 p.m. Pacific standard time on June 16, 2017.

ADDRESSES: You may submit comments on this document and requests for a public hearing by any of the following methods. Please identify comments as relating to the “Hart Ranch Proposed Safe Harbor Agreement.”

• Electronic Submissions: Submit all electronic comments via the Federal Rulemaking Portal. Go to http://www.regulations.gov/#!docketDetail;D=NOAA-NMFS-2017-0041, click the “Comment Now!” icon, complete the required fields, and enter, or attach your comments.

• Mail, Email, or Fax: Submit written comments and requests for a public hearing to California Coastal Office, NMFS WCR, 1655 Heindon Road, Arcata, CA 95521. Comments and requests may also be submitted via fax to 707-825-4840 or by email to WCRHartRanchSHA.comments@noaa.gov.

Instructions: Comments sent by any other methods, to any other address or individual, or received after the end of the comment period, may not be considered by NMFS. All comments received are part of the public record, and will generally be posted for public viewing on http://www.regulations.gov without change. All personally identifying information (e.g., name, address, etc.), confidential business information, or otherwise sensitive information submitted voluntarily by the sender will be publicly accessible. NMFS will accept anonymous comments (enter “N/A” in the required fields if you wish to remain anonymous).

Information NMFS received as a part of the application is available upon request by contacting the NMFS West Coast Region (WCR) at its California Coastal Office in Arcata, California.

FOR FURTHER INFORMATION CONTACT: Jim Simondet, NOAA Fisheries California Coastal Office, 707-825-5171, email: WCRHartRanchSHA.comments@noaa.gov).

SUPPLEMENTARY INFORMATION:

Background

Enhancement of survival permits are issued in accordance with section 10(a)(1)(A) of the ESA (16 U.S.C. 1531 et seq.), and regulations governing ESA-listed fish and wildlife permits (50 CFR parts 222-227). NMFS issues permits based on findings that such permits: (1) Were applied for in good faith; (2) if granted and exercised would not operate to the disadvantage of the listed species that are the subject of the permit; and (3) are consistent with the purposes and policy set forth in section 2 of the ESA. The authority to take listed species is subject to conditions set forth in the permits.

Under a Safe Harbor Agreement, participating landowners voluntarily undertake management activities on their property to enhance, restore, or maintain habitat benefiting species listed under the ESA (16 U.S.C. 1531 et seq.). Safe Harbor Agreements, and the subsequent enhancement of survival permits that are issued pursuant to section 10(a)(1)(A) of the ESA, encourage private and other non-federal property owners to implement conservation efforts for listed species by assuring property owners that they will not be subjected to increased property-use restrictions as a result of their efforts to attract listed species to their property and increase the numbers or distribution of these species already on their property. Application requirements and issuance criteria for enhancement of survival permits through Safe Harbor Agreements are found in 50 CFR 222.308(b), 222.308(c) and the Announcement of Final Safe Harbor Policy published on June 17, 1999 (64 FR 32717). The permit allows any necessary future incidental take of covered species above the mutually agreed-upon baseline conditions for those species in accordance with the terms and conditions of the permit and accompanying Agreement.

Any interested party may submit data, views, arguments, or a request for a hearing with respect to the permit application and proposed Safe Harbor Agreement. Anyone requesting a hearing on a matter pursuant to this notice should set out the specific reasons why a hearing would be appropriate (see ADDRESSES). Such hearings are held at the discretion of the Assistant Administrator for Fisheries, NMFS.

Application Received (Permit 21088)

The Hart Ranch (Applicant) is requesting an enhancement of survival permit and approval of an associated proposed Agreement that was developed by NMFS and the Applicant. The enhancement of survival permit will facilitate implementation of the Agreement, which is expected to promote the recovery of the covered species on non-federal property within the Little Shasta River on the Hart Ranch. The Little Shasta River is a tributary to the Shasta River, (a tributary to the Klamath River) in Siskiyou County, California. The proposed duration of the Agreement and the associated enhancement of survival permit is 10 years. The proposed enhancement of survival permit would authorize the incidental taking of SONCC coho salmon that may be associated with covered activities, including beneficial management activities, routine ranch management activities, and the potential future return of the enrolled property to baseline conditions at the end of the Agreement, as defined in the Agreement. The Agreement specifies the beneficial management activities to be carried out on the enrolled property and a schedule for implementing those activities. The Agreement is expected to promote the recovery of SONCC coho salmon within the Hart Ranch.

The Safe Harbors policy encourages landowners to improve habitat for listed species on their property. Under the policy, NMFS determines a habitat baseline condition and any increase in a listed species population above that baseline condition that results from the landowner's voluntary stewardship efforts would not increase their regulatory responsibility or affect future land-use decisions. NMFS reviewed each present baseline and elevated baseline determination. The Agreement also contains a monitoring component that requires the Applicant to ensure compliance with the terms and conditions of the Agreement, and that the baseline levels of habitat for the covered species occurs on the enrolled property. Results of the monitoring efforts will be provided to NMFS by the Applicant in an annual report for the duration of the 10-year permit term.

Upon approval of this Agreement, and consistent with the U.S. Fish and Wildlife Agency and NMFS's joint Safe Harbor Policy (64 FR 32717, June 17, 1999), NMFS will issue an enhancement of survival permit to the Applicant. The enhancement of survival permit will authorize the Applicant to take SONCC coho salmon incidental to the implementation of the covered activities specified in the Agreement, incidental to other lawful uses of the enrolled property, and to return to present baseline and elevated baseline conditions, if desired, at the end of the Agreement. In addition to meeting other criteria, actions to be performed under the enhancement of survival permit must not jeopardize the existence of federally listed species.

This notice is provided pursuant to section 10(c) of the ESA. NMFS will evaluate the application, associated documents, and comments submitted to determine whether the application meets the requirements of section 10(a) of the ESA and 50 CFR part 17 of federal regulations. The final permit decision will not be made until after the end of the 30-day comment period. NMFS will publish a notice announcing its final action in the Federal Register.

Dated: May 11, 2017.
Angela Somma,
Acting Deputy Director, Office of Protected Resources, National Marine Fisheries Service.

[FR Doc. 2017-09904 Filed 5-16-17; 8:45 am]

BILLING CODE 3510-22-P